NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Regulations. This is required notice of permit application received.

DATES: Interested parties are invited to submit written data, comments, or views with respect to this permit application by November 6, 2006. This application may be inspected by interested parties at the Permit Office, address below.

ADDRESSES: Comments should be addressed to Permit Office, Room 755, Office of Polar Programs, National science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations established such a permit system to designate Antarctic Specially Protected Areas.

The applications received are as follows:

Permit Application No. 2007-016

1. Applicant: David Hutchins, College of Marine Studies, University of Delaware, 700 Pilottown Road, Lewes, DE 19958.

Activity for Which Permit Is Requested

Export and Introduce a Non-indigenous species into Antarctica. The applicant plans to introduce two (2) 100 mi vials each of Phaeocystic Antarctica, Thalassiosira Antarctica, Parauonema sp., Tyramimonas tychotreta, Paraphysomonas imperforate, Geminigera cryophila, Mallomonas sp., unidentified Antarctic marine bacterium, and Fragilaria sp. to Antarctica for use during experiments onboard the RVIB Nathaniel B. Palmer. These marine phytoplankton will be used in shipboard experiments to study feeding rates of Antarctic protistan grazers. The cultures will be destroyed after use.

Location: Ross Sea, Antarctica.

Dates: October 20, 2006 to January 1, 2007.

Permit Application No. 2007-017

2. Applicant: Philip R. Kyle, Department of Earth & Environmental Science, NM Institute of Mining & Technology, 801 Leroy Place, Socorro, NM 87801.

Activity for Which Permit Is Requested

Enter Antarctic Specially Protected Area. The applicant plans to use the hut at Cape Crozier (ASPA 124) and collect rock samples from Post Office Hill and The Knoll, all of which are within the Cape Crozier ASPA. The team does not plan to enter the penguin rookery.

Location: Cape Crozier, Ross Island (ASPA #124).

Dates: November 29, 2006 to January 30, 2007.

Nadene G. Kennedy,
Permit Officer, Office of Polar Programs.

[FR Doc. 06-8489 Filed 10-4-06; 8:45 am]

BILLING CODE 7555-01-M